ENVIRONMENTAL PROTECTION AGENCY

40 CFR Part 52

[EPA-R04-OAR-2023-0056; FRL-11369-01-R4]

Air Plan Approval; FL; Miscellaneous SIP Revision

AGENCY: Environmental Protection Agency (EPA).

ACTION: Proposed rule.

SUMMARY: The Environmental Protection Agency (EPA) is proposing to approve a Florida State Implementation Plan (SIP) revision, submitted by the State of Florida through the Florida Department of Environmental Protection (FDEP) on April 1, 2022. The SIP revision revises multiple stationary source rules in Florida's SIP with substantive and minor changes throughout. EPA is proposing to approve these changes pursuant to the Clean Air Act (CAA or Act).

DATES: Comments must be received on or before October 11, 2023.

ADDRESSES: Submit your comments, identified by Docket ID No. EPA-R04-OAR-2023-0056 at www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Josue Ortiz Borrero, Air Regulatory Management Section, Air Planning and Implementation Branch, Air and Radiation Division, U.S. Environmental Protection Agency, Region 4, 61 Forsyth Street SW, Atlanta, Georgia 30303-8960. Mr. Ortiz can be reached via phone number (404) 562-8085 or via electronic mail at ortizborrero.josue@epa.gov.

SUPPLEMENTARY INFORMATION:

I. Background

EPA is proposing to approve certain changes to the Florida SIP that were submitted by FDEP on April 1, 2022. Specifically, EPA is proposing to approve changes to Rules 62-296.414, Florida Administrative Code (F.A.C.), Concrete Batching Plants; 62-296.415, F.A.C., Soil Thermal Treatment Facilities; 62-296.418, F.A.C., Bulk Gasoline Plants; 62-296.500, F.A.C., Reasonably Available Control Technology (RACT)—Volatile Organic Compounds (VOC) and Nitrogen Oxides (NOX) Emitting Facilities; 62-296.501, F.A.C., Can Coating; 62-296.502, F.A.C., Coil Coating; 62-296.503, F.A.C., Paper Coating; 62-296.504, F.A.C., Fabric and Vinyl Coating; 62-296.505, F.A.C., Metal Furniture Coating; 62-296.506, F.A.C., Surface Coating of Large Appliances; 62-296.507, F.A.C., Magnet Wire Coating; 62-296.508, F.A.C., Petroleum Liquid Storage; 62-296.510, F.A.C., Bulk Gasoline Terminals; 62-296.511, F.A.C., Solvent Metal Cleaning; 62-296.512, F.A.C., Cutback Asphalt; 62-296.513, F.A.C., Surface Coating of Miscellaneous Metal Parts and Products; 62-296.514, F.A.C., Surface Coating of Flat Wood Paneling; 62-296.515, F.A.C., Graphic Arts Systems; and 62-296.516, F.A.C., Petroleum Liquid Storage Tanks with External Floating Roofs.¹

¹ The April 1, 2022, submittal transmits several changes to other Florida SIP-approved rules. These changes are not addressed in this notice and will be considered by EPA in separate rulemakings.

II. EPA's Analysis of Florida's April 1, 2022, SIP Revision

A. Rule 62-296.414, Concrete Batching Plants

Florida's April 1, 2022, SIP revision updates Rule 62-296.414, Concrete Batching Plants, with one change to a cross-reference, several language edits, and an adjustment to one timing requirement.

First, the SIP revision changes one cross-reference in subparagraph (3)(a) to reflect that EPA Method 9 is now found in 40 CFR part 60, Appendix A-4. Previously, the rule indicated that EPA Method 9 could be found in 40 CFR part 60, Appendix A generally. EPA is proposing to approve this change since it specifies which section of Appendix A houses EPA Method 9.

The SIP revision also makes several language edits. One language change eliminates the unnecessary phrase “new and existing” from the introductory paragraph of the rule to describe emissions units. The rule applies to all emissions units producing concrete and concrete products by batching or mixing cement and other materials, and the change merely simplifies the text. Another edit in subparagraphs (4)(a) and (4)(b) changes language to specify that visible emissions testing must be conducted for “stack emissions referenced in subsection 62-296.414(1), F.A.C.” rather than “for each dust collector exhaust point.” This change broadens the scope of the rule by requiring visible emissions tests to be performed at any emission point on a stack that is appropriate per the required testing method, rather than only at a dust collector exhaust point. One last language change in subparagraph (4)(b) replaces the word “performance” with “visible emissions” in the phrase “performance test.” This change is clarifying in nature as the performance test for this rule has always been a visible emissions test, so the language does not alter any applicable requirements.

Finally, the SIP revision has changed a timing requirement that specifies how soon a visible emissions test must be performed within the commencement of initial operation. The SIP revision changes the requirement for a visible emissions test to be performed within 30 days of commencing “initial” operation to 60 days. FDEP explains that it is making this change because it is more logistically practicable for a subject source to perform the test in 60 days instead of the first 30 days. EPA agrees with the State, does not expect a difference in emissions between a test result performed within the first 30 days in comparison to one performed within the second set of 30 days that would interfere with any applicable CAA requirement, and notes that the emissions limitations in paragraphs (1) and (2) immediately apply to subject sources.

For the reasons discussed above, these proposed changes to the SIP would not interfere with any applicable requirement concerning attainment of the NAAQS and reasonable further progress (RFP) or any other applicable requirement of the Act.² Therefore, EPA is proposing to approve the aforementioned changes to Rule 62-296.414 into the Florida SIP.

² See CAA Section 110(l).

B. Rule 62-296.415, Soil Thermal Treatment Facilities

Florida's April 1, 2022, SIP revision updates Rule 62-296.415, Soil Thermal Treatment Facilities, with two language edits, several cross-reference changes, and the removal of one obsolete compliance date.

The SIP revision makes two language edits to Rule 62-296.415. First, the introductory paragraph to the rule has been revised to change the word “section” to “rule” in describing Rule 62-296.415. EPA is proposing to accept this change because it is consistent with the nomenclature used in Florida's regulations. Second, Rule 62-296.415 was revised to eliminate the unnecessary phrase “new, modified, and existing” because all soil thermal treatment facilities covered by the rule are either new or existing. Therefore, the removal of this phrase merely simplifies the text.

In addition to the language changes, Florida has revised the rule to update several cross-references. In subsection (1)(b) the rule citation for requiring a continuous emission monitor was changed from “Rule 62-297.500, F.A.C.,” to “Subsection 62-296.415(6), F.A.C.,” due to the repeal of Rule 62-297.500. Because Florida repealed Rule 62-297.500 and it is not a part of the Florida SIP, this cross-reference does not function in its current form. The new cross-reference is to an applicable section within Rule 62-296.415, which is a SIP-approved rule. EPA is proposing to approve this revision because owners and operators of soil thermal treatment facilities will now be subject to specific continuous emissions monitoring requirements for carbon monoxide. The SIP revision also revises a cross-reference in subsection (4). Specifically, the revision changes the applicable rule citation for unconfined emissions of soil thermal treatment facilities from Rule 62-296.310 to Rule 62-296.320. Similar to the change in subsection (1)(b), this cross-referenced rule has been repealed and is not a part of the Florida SIP, so the cross-reference does not function in its current form. The new cross-reference is to a SIP-approved rule containing the applicable requirements for controlling unconfined emissions of particulate matter at soil thermal treatment facilities. EPA is proposing to approve this change because owners and operators of soil thermal treatment facilities will now be subject to specific rules to control unconfined emissions of particulate matter. Another change adds language to subparagraphs (5)(a)-(5)(c) to specify which section in 40 CFR part 60, Appendix A describes the respective federally approved test methods cited in each subparagraph. The changes also add that the State has adopted and incorporated by reference the EPA test methods at Rule 62-204.800.³ The new reference to Rule 62-204.800 replaces a reference to the test methods incorporated and adopted by reference generally into Chapter 62-297. EPA test methods were previously adopted by reference in Rule 62-297.401. Rule 62-297.401 was repealed from the State rules on July 19, 2014, and EPA removed it from the SIP on April 2, 2018. See 83 FR 13875. Because Florida repealed Rule 62-297.401 and it is not a part of the Florida SIP, this cross-reference does not function in its current form. The new cross-reference is to Rule 62-297.800 which adopts and incorporates by reference EPA test methods. EPA is proposing to approve this revision because owners and operators of soil thermal treatment facilities will be subject to the requirements outlined in applicable EPA test methods. EPA proposes to accept these changes because they correct and specify multiple cross-references in the rule.

³ Rule 62-204.800 adopts and incorporates by reference federal rules cited throughout FDEP's air pollution rules.

Finally, the SIP revision eliminates an obsolete compliance date in the introductory paragraph for Rule 62-296.415. Currently, the introductory paragraph requires that all facilities comply with the requirements in Rule 62-296.415 by December 1, 1992. Since this compliance date has passed, the compliance date is obsolete and no longer needed in the SIP. All soil thermal treatment facilities will still be required to comply with the requirements in the rule.

For the reasons discussed above, these proposed changes to the SIP would not interfere with any applicable requirement concerning attainment of the NAAQS and RFP or any other applicable requirement of the Act. Therefore, EPA is proposing to approve the aforementioned changes to Rule 62-296.415 into the Florida SIP.

C. Rule 62-296.418, Bulk Gasoline Plants

Florida's April 1, 2022, SIP revision updates Rule 62-296.418, Bulk Gasoline Plants with one change that specifies the counties by name that are subject to the rule—Broward, Duval, Hillsborough, Miami-Dade, Orange, Palm Beach, and Pinellas Counties—instead of referring generally to areas designated as air quality maintenance areas for ozone under Rule 62-204.340.

Florida has several counties that were initially designated as nonattainment for the 1-hour ozone NAAQS but are now in maintenance. On November 6, 1991, EPA designated and classified Broward, Dade,⁴ and Palm Beach counties as moderate nonattainment for the 1979 1-hour ozone NAAQS; Duval County as transitional nonattainment; Hillsborough and Pinellas counties as marginal nonattainment; and Orange County as attainment.⁵ See 56 FR 56694. The State was required to develop and submit to EPA plans to attain the standard in the nonattainment areas, including reasonably available control technology (RACT) regulations to control ozone for incorporation into the Florida SIP. On November 8, 1993, Florida submitted to EPA an ozone redesignation request and maintenance plan for Broward, Dade, Palm Beach, and Duval Counties. EPA approved Florida's maintenance plan and request to redesignate Broward, Dade, and Palm Beach counties to attainment for the 1-hour ozone NAAQS, effective April 25, 1995, and Duval County to attainment for the 1-hour ozone NAAQS, effective March 6, 1995. See 60 FR 10325 (February 24, 1995). On December 7, 1995, EPA approved Florida's request to redesignate Hillsborough and Pinellas counties to attainment for the 1-hour ozone NAAQS. See 60 FR 62748.

⁴ Dade County was renamed as Miami-Dade County in 1997.

⁵ Orange County has never been designated as nonattainment for the 1-hour ozone NAAQS.

Currently, the Rule applies to those counties that were designated as maintenance areas for ozone under SIP-approved Rule 62-204.340, Designation of Attainment, Nonattainment, and Maintenance Areas. Rule 62-204.340 lists Orange County, Duval County, the area consisting of Broward, Dade, and Palm Beach Counties, and the area consisting of Hillsborough and Pinellas Counties as maintenance areas for ozone. The SIP revision replaces the language referring to those areas listed under Rule 62-204.340 with a listing of the applicable counties in each of the listed maintenance areas under Rule 62-204.340.⁶

⁶ If an area in Florida is designated nonattainment and classified as moderate or higher for an ozone NAAQS in the future, Florida would be required to submit a plan to attain the NAAQS, and only then would need to revise this rule to possibly include other counties that would be subject to the RACT requirements in the rule.

For the reasons discussed above, these proposed changes to the SIP would not interfere with any applicable requirement concerning attainment of the NAAQS and RFP or any other applicable requirement of the Act. Therefore, EPA is proposing to approve the aforementioned changes to Rule 62-296.418 into the Florida SIP.

D. Rule 62-296.500, Reasonably Available Control Technology (RACT)—Volatile Organic Compounds (VOC) and Nitrogen Oxides (NOX) Emitting Facilities

Florida's April 1, 2022, SIP revision updates Rule 62-296.500, Reasonably Available Control Technology (RACT)—Volatile Organic Compounds (VOC) and Nitrogen Oxides (NOX) Emitting Facilities, with one language edit, a specification as to what facilities the rule applies to, several changes to cross-references, and one additional exemption.

First, the language change to Rule 62-296.500 revises both subparagraphs (1)(b) and (2)(c) to change the word “section” to “rule” in describing Rule 62-296.500. EPA is proposing to accept this change because it is consistent with the nomenclature used in Florida's regulations.

The SIP revision also makes a change that clarifies which facilities the rule applies to. The current SIP-approved rule states in subparagraph (1)(a) that the rule applies to “existing VOC-emitting facilities” and “new and modified VOC-emitting facilities” in those “areas designated as air quality maintenance areas for ozone under Rule 62-204.340, F.A.C.” The SIP revision removes this language and instead states that the rule applies to “each stationary VOC-emitting stationary emissions unit in Broward, Duval, Hillsborough, Miami-Date, Orange, Palm Beach, or Pinellas County . . .” EPA is proposing to approve this change because the specific counties listed in the revision are the same as those listed as ozone maintenance areas in the SIP-approved version of Rule 62-204.340.⁷

⁷ See footnote 6.

In addition to the above-described changes, Florida has revised the rule to update several cross-references. First, subparagraphs (1)(a) and (1)(b) are revised to add the phrases “Prevention of Significant Deterioration review or Preconstruction Review for Nonattainment Areas” for the currently SIP-approved cross-references to 40 CFR 52.21, Rule 62-212.400, and Rule 62-212.500. The SIP revision also adds the phrase “as adopted and incorporated by reference in Rule 62-204.800, F.A.C.” after the reference to 40 CFR 52.21. The SIP revision also identifies the December 1984 date for the existing cross-reference to EPA document number 450/3-84-019 in subparagraph (2)(b)4., which explains what form a manufacturer's certification of the coating composition must be in, and states that this version is “herein adopted and incorporated by reference.” EPA proposes to accept these changes as they add more identifying information to currently SIP-approved cross-references and incorporate by reference an EPA document that was already referenced in the Rule.

Finally, subparagraph (2)(a) is revised to exempt emissions units operating under an Air General Permit pursuant to Rule 62-210.310 from the requirement to obtain separate permits to construct or operate pursuant to this paragraph. Although these emission units would not be required to obtain any additional permits under paragraph (2)(a), they would still be subject to applicable emission limits and other requirements in Rules 62-296.501 through 62.296.516 and 62-296.570 (i.e., the permitting exemption would not change the requirement for owners and operators of these facilities to comply with applicable RACT requirements under these rules).8 9

⁸ See Rules 62-210.310(1)(a)(2) and 62-210.310(3)(n) in the Florida SIP.

⁹ See email from Preston McLane, Florida Department of Environmental Protection, to Brad Akers, EPA Region 4 (August 23, 2023), available in the docket for this proposed rulemaking.

For the reasons discussed above, these proposed changes to the SIP would not interfere with any applicable requirement concerning attainment of the NAAQS and RFP or any other applicable requirement of the Act. Therefore, EPA is proposing to approve the aforementioned changes to Rule 62-296.500 into the Florida SIP.

E. Rules 62-296.501, Can Coating; 62-296.502, Coil Coating; 62-296.503, Paper Coating; 62-296.504, Fabric and Vinyl Coating; 62-296.505, Metal Furniture Coating; 62-296.506, Surface Coating of Large Appliances; and 62-296.507, Magnet Wire Coating

Florida's April 1, 2022, SIP revision updates Rules 62-296.501, Can Coating; 62-296.502, Coil Coating; 62-296.503, Paper Coating; 62-296.504, Fabric and Vinyl Coating; 62-296.505, Metal Furniture Coating; 62-296.506, Surface Coating of Large Appliances; and 62-296.507, Magnet Wire Coating with identical changes to cross-references in their respective rules.

The SIP revision updates four cross-references in each of the cited rules. First, subparagraph (4)(a) of each rule has been revised to add the following language to include a citation to the CFR for EPA Method 24: “as described at 40 CFR part 60, Appendix A-7, adopted and incorporated by reference at Rule 62-204.800, F.A.C.” The new reference to Rule 62-204.800 replaces a reference to the test methods incorporated and adopted by reference generally in Chapter 62-297. EPA test methods were previously adopted by reference in Rule 62-297.401. As mentioned previously, Rule 62-297.401 was repealed from the State rules on July 19, 2014, and EPA removed it from the SIP on April 2, 2018. See 83 FR 13875. Because Florida repealed Rule 62-297.401 and it is not a part of the Florida SIP, this cross-reference does not function in its current form. The new cross-reference is to Rule 62-297.800 which adopts and incorporates by reference EPA test methods. EPA is proposing to approve this revision because owners and operators of each of the respective facilities will be subject to the requirements outlined in applicable EPA test methods. Further, subparagraph (4)(a) has also been revised in each rule to include the full title for EPA document 450/3-84-019, the location of the document on the Florida Department of State's website, and a statement that the document is adopted and incorporated by reference in the rule: “Procedures for Certifying Quantity of Volatile Organic Compounds Emitted by Paint, Ink, and Other Coatings (http://www.flrules.org/Gateway/reference.asp?No=Ref-04298), hereby adopted and incorporated by reference.” Next, subparagraph (4)(b) of each rule has been revised to add the following language that includes a citation to the CFR for EPA Method 25 and identifies the rule that adopts and incorporates by reference that test method: “as described at 40 CFR part 60, Appendix A-7, adopted and incorporated by reference at Rule 62-204.800, F.A.C.” Further, subparagraph (4)(b) has also been revised in each rule to include the full title of EPA document 450/2-78-041: “Alternate Test Method for Direct Measurement of Total Gaseous Organic Compounds Using a Flame Ionization Analyzer.” Finally, the revision revises subparagraph (4)(b)(2) in every rule to update the cross-reference for the specified test method for volatile organic compounds from Rule 62-297.440(7) to Rule 62-297.450. Rule 62-297.440(7) was repealed from the State rules on July 10, 2014, and EPA removed it from the Florida SIP on April 2, 2018. See 83 FR 13875. Because Florida repealed Rule 62-297.440(7) and it is not a part of the Florida SIP, this cross-reference does not function in its current form. The new cross-reference is to Rule 62-297.450, which is a SIP-approved rule. EPA is proposing to approve this revision because owners and operators of each of the respective facilities will now be subject to specific VOC capture efficiency test procedures.

For the reasons discussed above, these proposed changes to the SIP would not interfere with any applicable requirement concerning attainment of the NAAQS and RFP or any other applicable requirement of the Act. Therefore, EPA is proposing to approve the aforementioned changes to Rules 62-296.501, Can Coating; 62-296.502, Coil Coating; 62-296.503, Paper Coating; 62-296.504, Fabric and Vinyl Coating; 62-296.505, Metal Furniture Coating; 62-296.506, Surface Coating of Large Appliances; and 62-296.507, Magnet Wire Coating into the Florida SIP.

F. Rule 62-296.508, Petroleum Liquid Storage

Florida's April 1, 2022, SIP revision updates Rule 62-296.508, Petroleum Liquid Storage, with one language change and several changes to cross-references.

First, the language change to Rule 62-296.508 revises paragraph (3) to change the word “section” to “rule” in describing Rule 62-296.508. EPA is proposing to accept this change because it is consistent with the nomenclature used in Florida's regulations.

The SIP revision also updates several cross-references in the rule. First, subparagraph (3)(b) has been revised to add the following language that now includes a citation to the CFR for EPA Method 25, and identifies the State rule that adopts and incorporates by reference that test method: “as described at 40 CFR part 60, Appendix A-7, adopted and incorporated by reference at Rule 62-204.800, F.A.C.” Further, subparagraph (3)(b) has also been revised to include the full title of EPA document 450/2-78-041: “Alternate Test Method for Direct Measurement of Total Gaseous Organic Compounds Using a Flame Ionization Analyzer.” Finally, the revision revises subparagraph (4)(b)(2) to update the cross-reference for the specified test method for volatile organic compounds from Rule 62-297.440(7) to Rule 62-297.450. As mentioned in Section II.E, Rule 62-297.440(7) was repealed from the State rules on July 10, 2014, and EPA removed it from the Florida SIP on April 2, 2018. See 83 FR 13875. Because Florida repealed Rule 62-297.440(7) and it is not a part of the Florida SIP, this cross-reference does not function in its current form. The new cross-reference is to Rule 62-297.450, which is a SIP-approved rule. EPA is proposing to approve this revision because owners and operators of each of the respective facilities will now be subject to specific VOC capture efficiency test procedures.

For the reasons discussed above, these proposed changes to the SIP would not interfere with any applicable requirement concerning attainment of the NAAQS and RFP or any other applicable requirement of the Act. Therefore, EPA is proposing to approve the aforementioned changes to Rule 62-296.508 into the Florida SIP.

G. Rule 62-296.510, Bulk Gasoline Terminals

Florida's April 1, 2022, SIP revision updates Rule 62-296.510, Bulk Gasoline Terminals to revise several cross-references.

The SIP revision revises cross-references in two subparagraphs. First, subparagraph (4)(a) has been revised to add the following language that now includes a citation to the CFR for EPA Methods 2A and 2B: “as described at 40 CFR part 60, Appendix A-1.” Further, the following language has been added to the same subparagraph to include a citation to the CFR for EPA Methods 25A and 25B: “as described at 40 CFR part 60, Appendix A-7.” Florida also changes subparagraph (4)(a) to state that EPA Methods 2A, 2B, 25A, and 25B have been “adopted and incorporated by reference at Rule 62-204.800, F.A.C.” Second, subparagraph (4)(b) has been revised to add the following language that now includes a citation to the CFR for EPA Methods 21 and 27: “as described at 40 CFR part 60, Appendix A-7; and EPA Method 27, as described at 40 CFR part 60, Appendix A-8.” Similar to the change in subparagraph (4)(a), Florida adds language noting that EPA Methods 21 and 27 have also been “adopted and incorporated by reference at Rule 62-204.800.” The new reference to Rule 62-204.800 replaces a reference to the test methods incorporated and adopted by reference generally in Chapter 62-297. EPA test methods were previously adopted by reference in Rule 62-297.401. As mentioned previously, Rule 62-297.401 was repealed from the State rules on July 19, 2014, and EPA removed it from the SIP on April 2, 2018. See 83 FR 13875. Because Florida repealed Rule 62-297.401 and it is not a part of the Florida SIP, this cross-reference does not function in its current form. The new cross-reference is to Rule 62-297.800 which adopts and incorporates by reference EPA test methods. EPA is proposing to approve this revision because owners and operators of bulk gasoline terminals will now be subject to the requirements outlined in applicable EPA test methods. EPA proposes to accept these changes because they do not alter any requirements and they add more identifying information to already SIP-approved test methods.

For the reasons discussed above, these proposed changes to the SIP would not interfere with any applicable requirement concerning attainment of the NAAQS and RFP or any other applicable requirement of the Act. Therefore, EPA is proposing to approve the aforementioned changes to Rule 62-296.510 into the Florida SIP.

H. Rule 62-296.511, F.A.C., Solvent Metal Cleaning

Florida's April 1, 2022, SIP revision updates Rule 62-296.511, Solvent Metal Cleaning, by revising several cross-references and making one language edit.

First, the SIP revision updates several cross-references. In subparagraph(1)(a), Florida has revised the language to state that 40 CFR part 63, subpart T, is adopted and incorporated by reference in Rule 62-204.800 rather than in Rule 62-204.800(9). This edit provides a correction as the incorporation by reference of 40 CFR part 63, subpart T does not exist in 62-204.800(9) but does in 62-204.800 generally. Second, subparagraph (5)(a) has been revised to add the following language that now includes a citation to the CFR for EPA Method 21 and identifies the State rule that adopts and incorporates by reference that test method: “as described at 40 CFR part 60, Appendix A-7, adopted and incorporated by reference at Rule 62-204.800.” The new reference to Rule 62-204.800 replaces a reference to the test methods incorporated and adopted by reference generally in Chapter 62-297. EPA test methods were previously adopted by reference in Rule 62-297.401. As mentioned previously, Rule 62-297.401 was repealed from the State rules on July 19, 2014, and EPA removed it from the SIP on April 2, 2018. See 83 FR 13875. Because Florida repealed Rule 62-297.401 and it is not a part of the Florida SIP, this cross-reference does not function in its current form. The new cross-reference is to Rule 62-297.800 which adopts and incorporates by reference EPA test methods. EPA is proposing to approve this revision because owners and operators of solvent metal cleaning facilities will be subject to the requirements outlined in applicable EPA test methods. Subparagraph (5)(b) has also been revised by adding the following language that now includes a citation to the CFR for EPA Method 25, and identifies the State rule that adopts and incorporates by reference that test method: “as described at 40 CFR part 60, Appendix A-7, adopted and incorporated by reference at Rule 62-204.800, F.A.C.” Further, the same subparagraph is revised to include the full title of EPA document 450/2-78-041: “Alternate Test Method for Direct Measurement of Total Gaseous Organic Compounds Using a Flame Ionization Analyzer.” Finally, the revision revises subparagraph (5)(c) to update the cross-reference for the specified test method for volatile organic compounds from Rule 62-297.440(7) to Rule 62-297.450. As mentioned in Section II.E, Rule 62-297.440(7) was repealed from the State rules on July 10, 2014, and EPA removed it from the Florida SIP on April 2, 2018. See 83 FR 13875. Because Florida repealed Rule 62-297.440(7) and it is not a part of the Florida SIP, this cross-reference does not function in its current form. The new cross-reference is to Rule 62-297.450, which is a SIP-approved rule. EPA is proposing to approve this revision because owners and operators of each of the respective facilities will now be subject to specific VOC capture efficiency test procedures. Lastly, the SIP revision makes one language edit in subparagraph (1)(a). The edit removes the unnecessary phrase “new and existing” because all applicable facilities are either new or existing. Since the removal of this phrase does not alter the applicability of the rule, EPA finds this change acceptable.

For the reasons discussed above, these proposed changes to the SIP would not interfere with any applicable requirement concerning attainment of the NAAQS and RFP or any other applicable requirement of the Act. Therefore, EPA is proposing to approve the aforementioned changes to Rule 62-296.511 into the Florida SIP.

I. Rule 62-296.512, Cutback Asphalt

Florida's April 1, 2022, SIP revision updates Rule 62-296.512, Cutback Asphalt, with one language edit and the removal of a subsection that was never applicable to the rule.

First, the language edit revises paragraph (1) to make a minor wording change from “emission limiting standard or control technology” to “emission limiting control standards,” in describing the provisions in subsection 62-296.512(2). EPA approves of this change because paragraph 62-296.512(2) is titled “Control Standards” and only contains control standards.

Second, the SIP revision removes the entirety of paragraph (3), “Test Methods and Procedures” from the rule. The test methods and procedures identified in this paragraph are meant to test particulate matter emissions. However, the rule does not contain a testing requirement, and particulate matter is not a pollutant that is regulated by this rule as the only emission limits applicable in this rule are for volatile organic compounds. See Rule 62-296.500(1)(a). EPA is proposing to approve this change because the test methods and procedures in paragraph (3) are not applicable to Rule 62-296.512.

For the reasons discussed above, these proposed changes to the SIP would not interfere with any applicable requirement concerning attainment of the NAAQS and RFP or any other applicable requirement of the Act. Therefore, EPA is proposing to approve the aforementioned changes to Rule 62-296.512, F.A.C. into the Florida SIP.

J. Rule 62-296.513, Surface Coating of Miscellaneous Metal Parts and Products, and Rule 62.296.514, Surface Coating of Flat Wood Paneling

Florida's April 1, 2022, SIP revision updates Rules 62.296.513, Surface Coating of Miscellaneous Metal Parts and Products, and 62.296.514, Surface Coating of Flat Wood Paneling with identical changes to cross-references in the respective rules.

The SIP revision makes identical changes to three separate cross-references in both rules. First, subparagraph (4)(a) of each rule has been revised to add the following language to include a citation to the CFR for EPA Method 24 and identify the State rule that adopts and incorporates by reference that test method: “as described at 40 CFR part 60, Appendix A-7, adopted and incorporated by reference at Rule 62-204.800, F.A.C.” Further, subparagraph (4)(a) has also been revised in both rules to include the full title of EPA document 450/3-84-019, the location of the document on the Florida Department of State's website, and a statement that the document is adopted and incorporated by reference in the rule: “Procedures for Certifying Quantity of Volatile Organic Compounds Emitted by Paint, Ink, and Other Coatings (http://www.flrules.org/Gateway/reference.asp?No=Ref-04298) hereby adopted and incorporated by reference.” Finally, the SIP revision removes the phrase “incorporated and adopted by reference in Chapter 62-297, F.A.C” from subparagraph (4)(a) in each rule given the changes described earlier in this paragraph. Second, subparagraph (4)(b)(1) in both rules has been revised to add the following language after the reference to EPA Method 25: “as described at 40 CFR part 60, Appendix A-7, adopted and incorporated by reference at Rule 62-204.800, F.A.C.” Further, subparagraph (4)(b)(1) has also been revised in both rules to include the full title of EPA document 450/2-78-041: “Alternate Test Method for Direct Measurement of Total Gaseous Organic Compounds Using a Flame Ionization Analyzer.” Finally, subparagraph (4)(b)(2) is updated in both rules to update the cross-reference for the specified test method for volatile organic compounds from Rule 62-297.440(7) to Rule 62-297.450. As mentioned in Section II.E, Rule 62-297.440(7) was repealed from the State rules on July 10, 2014, and EPA removed it from the Florida SIP on April 2, 2018. See 83 FR 13875. Because Florida repealed subsection 62-297.440(7), and it is not a part of the Florida SIP, this cross-reference does not function in its current form. The new cross-reference is to Rule 62-297.450, which is a SIP-approved rule. EPA is proposing to approve this revision because owners and operators of each of the respective facilities will now be subject to specific VOC capture efficiency test procedures.

For the reasons discussed above, these proposed changes to the SIP would not interfere with any applicable requirement concerning attainment of the NAAQS or any other applicable requirement of the Act. Therefore, EPA is proposing to approve the aforementioned changes to Rules 62-296.513 and 62-296.514 into the Florida SIP.

K. Rule 62.296.515, Graphic Arts Systems

Florida's April 1, 2022, SIP revision updates Rule 62.296.515, Graphic Arts Systems, to revise several cross-references.

The SIP revision revises three cross-references. First, subparagraph (3)(a) has been revised to add the following language that now includes a citation to the CFR for EPA Methods 24 and 24A and identifies the State rule that adopts and incorporates by reference those test methods: “as described at 40 CFR part 60, Appendix A-7, adopted and incorporated by reference at Rule 62-204.800, F.A.C.” Further, subparagraph (3)(a) has also been revised to include the full title of EPA document 450/3-84-019, the location of the document on the Florida Department of State's website, and a statement that the document is adopted and incorporated by reference in the rule: “Procedures for Certifying Quantity of Volatile Organic Compounds Emitted by Paint, Ink, and Other Coatings (http://www.flrules.org/Gateway/reference.asp?No=Ref-04298) hereby adopted and incorporated by reference.” Finally, the SIP revision removes the phrase “incorporated and adopted by reference in Chapter 62-297, F.A.C” from subparagraph 3(a) given the changes described earlier in this paragraph. Second, subparagraph (3)(b)(1) has been revised to add the following language that now includes a citation to the CFR for EPA Method 25, and identifies the State rule that adopts and incorporates by reference that test method: “as described at 40 CFR part 60, Appendix A-7, adopted and incorporated by reference at Rule 62-204.800, F.A.C.” Further, subparagraph (3)(b)(1) has also been revised to include the full title of EPA document 450/2-78-041: “Alternate Test Method for Direct Measurement of Total Gaseous Organic Compounds Using a Flame Ionization Analyzer.” Finally, subparagraph (3)(b)(2) is revised to update the cross-reference for the specified test method for volatile organic compounds from Rule 62-297.440(7) to Rule 62-297.450. As mentioned in Section II.E, Rule 62-297.440(7) was repealed from the State rules on July 10, 2014, and EPA removed it from the Florida SIP on April 2, 2018. See 83 FR 13875. Because Florida repealed Rule 62-297.440(7) and it is not a part of the Florida SIP, this cross-reference does not function in its current form. The new cross-reference is to Rule 62-297.450, which is a SIP-approved rule. EPA is proposing to approve this revision because owners and operators of each of the respective facilities will now be subject to specific VOC capture efficiency test procedures.

For the reasons discussed above, these proposed changes to the SIP would not interfere with any applicable requirement concerning attainment of the NAAQS or any other applicable requirement of the Act. Therefore, EPA is proposing to approve the aforementioned changes to Rule 62-296.515 into the Florida SIP.

L. Rule 62.296.516, Petroleum Liquid Storage Tanks With External Floating Roofs

Florida's April 1, 2022, SIP revision updates Rule 62.296.516, Petroleum Liquid Storage Tanks with External Floating Roofs, to revise a cross reference. Subparagraph (3)(a) has been revised to add the following language that now includes a citation to the CFR for EPA Method 21, and identifies the State rule that adopts and incorporates by reference that test method: “as described at 40 CFR part 60, Appendix A-7, adopted and incorporated by reference at Rule 62-204.800, F.A.C.” Further, the same subparagraph has been edited to specify the section in EPA document 450/2-78-047, an already SIP-approved cross-reference, that provides a description of the applicable test method: “as described in section 5.2 on p.5-3 . . .” EPA proposes to approve these changes because they do not alter any requirements and they add more identifying information to already SIP-approved test methods.

For the reasons discussed above, these proposed changes to the SIP would not interfere with any applicable requirement concerning attainment of the NAAQS and RFP or any other applicable requirement of the Act. Therefore, EPA is proposing to approve the aforementioned changes to Rule 62-296.516 into the Florida SIP.

III. Incorporation by Reference

In this document, EPA is proposing to include in a final EPA rule regulatory text that includes incorporation by reference. In accordance with the requirements of 1 CFR 51.5, and as discussed in Section II of this preamble, EPA is proposing to incorporate by reference Rules 62-296.414, Concrete Batching Plants; 62-296.415, Soil Thermal Treatment Facilities; 62-296.418, Bulk Gasoline Plants; 62-296.500, Reasonably Available Control Technology (RACT)—Volatile Organic Compounds (VOC) and Nitrogen Oxides (NOX) Emitting Facilities; 62-296.501, Can Coating; 62-296.502, Coil Coating; 62-296.503, Paper Coating; 62-296.504, Fabric and Vinyl Coating; 62-296.505, Metal Furniture Coating; 62-296.506, Surface Coating of Large Appliances; 62-296.507, Magnet Wire Coating; 62-296.508, Petroleum Liquid Storage; 62-296.510, Bulk Gasoline Terminals; 62-296.511, Solvent Metal Cleaning; 62-296.512, Cutback Asphalt; 62-296.513, Surface Coating of Miscellaneous Metal Parts and Products; 62-296.514, Surface Coating of Flat Wood Paneling; 62-296.515, Graphic Arts Systems; and 62-296.516, Petroleum Liquid Storage Tanks with External Floating Roofs. EPA has made, and will continue to make, these materials generally available through www.regulations.gov and at the EPA Region 4 Office (please contact the person identified in the “For Further Information Contact” section of this preamble for more information).

IV. Proposed Action

EPA is proposing to approve the April 1, 2022, Florida SIP revision consisting of changes to Rules 62-296.414, Concrete Batching Plants; 62-296.415, Soil Thermal Treatment Facilities; 62-296.418, Bulk Gasoline Plants; 62-296.500, Reasonably Available Control Technology (RACT)—Volatile Organic Compounds (VOC) and Nitrogen Oxides (NOX) Emitting Facilities; 62-296.501, Can Coating; 62-296.502, Coil Coating; 62-296.503, Paper Coating; 62-296.504, Fabric and Vinyl Coating; 62-296.505, Metal Furniture Coating; 62-296.506, Surface Coating of Large Appliances; 62-296.507, Magnet Wire Coating; 62-296.508, Petroleum Liquid Storage; 62-296.510, Bulk Gasoline Terminals; 62-296.511, Solvent Metal Cleaning; 62-296.512, Cutback Asphalt; 62-296.513, Surface Coating of Miscellaneous Metal Parts and Products; 62-296.514, Surface Coating of Flat Wood Paneling; 62-296.515, Graphic Arts Systems; and 62-296.516, Petroleum Liquid Storage Tanks with External Floating Roofs, from the Florida SIP for the reasons discussed above.

V. Statutory and Executive Order Reviews

Under the CAA, the Administrator is required to approve a SIP submission that complies with the provisions of the CAA and applicable Federal regulations. See 42 U.S.C. 7410(k); 40 CFR 52.02(a). Thus, in reviewing SIP submissions, EPA's role is to approve State choices, provided that they meet the criteria of the CAA. Accordingly, this proposed action merely proposes to approve State law as meeting Federal requirements and does not impose additional requirements beyond those imposed by State law. For that reason, this proposed action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where EPA or an Indian tribe has demonstrated that a tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The FDEP did not evaluate EJ considerations as part of its SIP submittal; the CAA and applicable implementing regulations neither prohibit nor require such an evaluation. EPA did not perform an EJ analysis and did not consider EJ in this proposed action. Due to the nature of the action being proposed here, this proposed action is expected to have a neutral to positive impact on the air quality of the affected area. Consideration of EJ is not required as part of this proposed action, and there is no information in the record inconsistent with the stated goal of E.O. 12898 of achieving EJ for people of color, low-income populations, and Indigenous peoples.

List of Subjects in 40 CFR Part 52

Environmental protection, Air pollution control, Incorporation by reference, Intergovernmental relations, Nitrogen dioxide, Ozone, Particulate matter, Reporting and recordkeeping requirements, Sulfur oxides.

Authority: 42 U.S.C. 7401 et seq.

Dated: September 5, 2023.
Carol Kemker,
Acting Regional Administrator, Region 4.

[FR Doc. 2023-19463 Filed 9-8-23; 8:45 am]

BILLING CODE 6560-50-P